NATIONAL FOUNDATION FOR THE ARTS AND HUMANITIES

Institute of Museum and Library Services; Notice: Proposed Information Collection, Submission for OMB Review, Study of IMLS Funded Digital Collections and Content

AGENCY: Institute of Museum and Library Services, National Foundation for the Arts and Humanities.

ACTION: Notice: Proposed information collection, submission for OMB review, Study of IMLS Funded Digital Collections and Content

SUMMARY: The Institute of Museum and Library Services announces the following information collection has been submitted to the Office of Management and Budget (OMB) for review and approval in accordance with the Paperwork Reduction Act of 1995 (Pub. L. 104-13, 44 U.S.C. Chapter 35). This program helps to ensure that requested data can be provided in the desired format, reporting burden (time and financial resources) is minimized, collection instruments are clearly understood, and the impact of collection requirements on respondents can be properly assessed.

A copy of this proposed information collection, with applicable supporting documentation, may be obtained by contacting the individual listed below in the addressee section of this notice.

DATES: Written comments must be received by April 28, 2008.

The OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: Rachel Frick, Senior Program Officer, Institute of Museum and Library Services, 1800 M Street, NW, 9th Floor, Washington, DC. Ms. Frick can be reached by telephone: 202-653-4667; fax: 202-653-4601; or e-mail: rfrick@imls.gov.

SUPPLEMENTARY INFORMATION:

I. Background

The Institute of Museum and Library Services is an independent Federal grant-making agency authorized by the Museum and Library Services act, Public Law 108-81. The IMLS provides a variety of grant programs to assist the nation's museums and libraries in improving their operations and enhancing their services to the public. Museums and libraries of all sizes and types may receive support from IMLS programs. In the National Leadership Grant Program, IMLS funds the digitization of library and museum collections.

This study is to determine the feasibility of using the Open Archives Initiative (OAI) Metadata Harvesting Protocol to aggregate and provide integrated item-level search access to the digitization projects funded by the Institute of Museum and Library Services through the National Leadership Grant Program.

Agency: Institute of Museum and Library Services.

Title: Study of IMLS Funded Digital Collections and Content.

OMB Number: none.

Agency Number: 3137.

Frequency: Various.

Affected Public: museums and libraries that created digital collections with IMLS funding.

Number of Respondents: 360.

Estimated Time Per Respondent: various.

Total Burden Hours: 288.

Total Annualized capital/startup costs: n/a.

Total Annual Costs: $7,200.

FOR FURTHER INFORMATION CONTACT: Comments should be sent to Office of Information and Regulatory Affairs, Attn.: OMB Desk Officer for Education, Office of Management and Budget, Room 10235, Washington, DC 20503 (202) 395-7316.

Dated: March 12, 2008.
Lesley Langa,
Research Specialist.

[FR Doc. E8-6452 Filed 3-27-08; 8:45 am]

BILLING CODE 7036-01-P